NATIONAL FOUNDATION ON THE ARTS AND THE HUMANITIES

National Endowment for the Arts

Subject 30-Day Notice for the “Participant Outcomes Survey for the Creative Forces®: NEA Military Healing Arts Network Community Arts Engagement Subgranting Program”; Proposed Collection; Comment Request

AGENCY: National Endowment for the Arts; National Foundation on the Arts and the Humanities.

ACTION: Notice.

SUMMARY: The National Endowment for the Arts (NEA), as part of its continuing effort to reduce paperwork and respondent burden, conducts a preclearance consultation program to provide the general public and federal agencies with an opportunity to comment on proposed and/or continuing collections of information in accordance with the Paperwork Reduction Act of 1995. This program helps to ensure that requested data is provided in the desired format; reporting burden (time and financial resources) is minimized; collection instruments are clearly understood; and the impact of collection requirements on respondents is properly assessed. Currently, the NEA is soliciting comments concerning the proposed information collection through the Participant Outcomes Survey for individuals who participate in community arts programs funded by the Creative Forces®: NEA Military Healing Arts Network Community Arts Engagement Subgranting Program. Copies of this ICR, with applicable supporting documentation, may be obtained by visiting www.Reginfo.gov.

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments should be sent to the Office of Information and Regulatory Affairs, Attn: OMB Desk Officer for the National Endowment for the Arts, Office of Management and Budget, Room 10235, Washington, DC 20503, 202/395-7316, within 30 days from the date of this publication in the Federal Register.

SUPPLEMENTARY INFORMATION: The NEA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including using appropriate automated, electronic, mechanical, or other technological collection techniques or other forms of information technology, e.g., permitting electronic submission of responses.

Title: Participant Outcomes Survey for the Creative Forces®: NEA Military Healing Arts Network Community Arts Engagement Subgranting Program.

OMB Number: New.

Frequency: One-time pilot test of survey.

Affected Public: Participants of Creative Forces Community Engagement Programs/Events.

Estimated Number of Respondents: 360 (350 program participants, 10 project directors).

Total Burden Hours: 199.3 annually.

Total annualized capital/startup costs: 0.

Total annual costs (operating/maintaining systems or purchasing services): The total one-time contracted cost to the Federal Government for survey development, cognitive testing, and pilot testing is $75,000.

Description: This is a request for clearance for the NEA to conduct a pilot test of the Participant Outcomes Survey to assess individual-level outcomes associated with the Creative Forces®: NEA Military Healing Arts Network Community Engagement Grant Program (http://www.maaa.org/creativeforces/). This is a new data collection request, and the data to be collected are not available elsewhere unless collected through this information collection. The pilot study will enable the NEA to test and refine the survey's methodology for assessing outcomes and the administration process.

The Creative Forces®: NEA Military Healing Arts Network seeks to improve the health, well-being, and quality of life for military and veteran populations exposed to trauma, and for their families and caregivers through clinical and non-clinical programs (https://www.arts.gov/initiatives/creative-forces). Creative Forces is funded through Congressional appropriation. The Congressional Committee on Appropriation “supports the NEA's continued efforts to expand upon this successful program to embed Creative Arts Therapies at the core of integrative care efforts in clinical settings, advance collaboration among clinical and community arts providers to support wellness and reintegration efforts for affected families, and advance research to improve our understanding of impacts of these interventions in both clinical and community settings.”

According to the National Endowment for the Arts 2018-2022 Strategic Plan (page 20), evidence building for Strategic Objective 2.4, Support Access to Creative Arts Therapies and Evidence-Based Programs in the Arts and Health, involves “the development of a community engagement research agenda and framework for defining indicators and developing metrics for measuring the impact and benefits from participation in therapeutic arts interventions and community-based arts engagement programs aligned with, or complementary to, Creative Forces clinical program outcomes.”

Beginning in 2022, Creative Forces will award Community Engagement Grants to support non-clinical arts engagement programming for military-connected populations through matching grants of $10,000 to $50,000 for emerging (“Emerging”) and established (“Advanced”) community-based arts engagement projects to serve military-connected populations. The NEA anticipates awarding approximately 30 awards annually, with the first round of grant-funded projects taking place after July 1, 2022. The grant program will support a range of program models (e.g., ongoing class, drop-in studio, single event) designed to meet local needs. The grant program will be the largest coordinated effort in the U.S. to provide community arts engagement programming for military and veteran populations exposed to trauma, and for their families and caregivers. The Creative Forces Community Engagement Grant Program is conducted in partnership with Mid-America Arts Alliance (M-AAA).

During development of the Community Engagement Grant program, the NEA (1) documented the needs of military and veteran populations exposed to trauma, and of their families and caregivers, (2) identified goals for community arts engagement programming and four outcomes for participants, (3) produced logic models and measurement frameworks for the grantee and national program levels, (4) contributed to grant guidelines, and (5) evaluated methodologies and instruments for data collection. The Participant Outcomes Survey assesses four participant outcome areas identified during development of the grant program: Creative Expression, Social Connectedness, Resilience, and Independence and Successful Adaptation to Civilian Life. Participants of the programs supported by a Creative Forces Community Engagement grant will complete the survey at the beginning (pre) and end (post) of participation in the program. Program participants will be asked to complete an enrollment form. Project directors will be asked to participate in an interview following the end of the survey administration period.

The purpose of the Participant Outcomes Survey is to determine the impact of the Community Engagement Grant Program by measuring the extent of change over time (pre-to-post) in the four participant outcomes and to inform ongoing program improvement. Through this pilot test of the survey, the NEA will evaluate the effectiveness of the survey instrument and the administration process during the first cycle of the grant program. The data collection activities are planned for January through June 2023. A regular PRA clearance package will be submitted in FY 2023 for a Creative Forces Community Engagement Grant Program evaluation study that utilizes this survey instrument.

Dated: July 1, 2022.
Meghan Jugder,
Support Services Specialist, Office of Administrative Services & Contracts, National Endowment for the Arts.

[FR Doc. 2022-14462 Filed 7-6-22; 8:45 am]

BILLING CODE 7537-01-P